DEPARTMENT OF COMMERCE

International Trade Administration

[A-489-822]

Welded Line Pipe From the Republic of Turkey: Rescission of the Antidumping Duty Administrative Review; 2019-2020

AGENCY: Enforcement and Compliance, International Trade Administration, Department of Commerce.

SUMMARY: The Department of Commerce (Commerce) is rescinding this administrative review with respect to Cimtas Boru Imalatlari ve Ticaret, Ltd. Sti. (Cimtas). The period of review (POR) is December 1, 2019, through November 30, 2020.

DATES: Applicable May 10, 2022.

FOR FURTHER INFORMATION CONTACT: Alice Maldonado, AD/CVD Operations, Office II, Enforcement and Compliance, International Trade Administration, U.S. Department of Commerce, 1401 Constitution Avenue NW, Washington, DC 20230; telephone: (202) 482-4682.

SUPPLEMENTARY INFORMATION:

Background

On January 4, 2022, Commerce published its preliminary intent to rescind this administrative review with respect to Cimtas in the Federal Register.¹ Although we invited parties to comment on the Preliminary Results,² no interested party submitted comments. Accordingly, no decision memorandum accompanies this Federal Register notice.

¹ See Welded Line Pipe from the Republic of Turkey: Partial Rescission and Preliminary Intent to Rescind the Antidumping Duty Administrative Review; 2019-2020, 87 FR 218 (January 4, 2022) (Preliminary Results), and accompanying Preliminary Decision Memorandum (PDM) at 3-5. In the Preliminary Results, we also rescinded this review with respect to 18 companies. Id. at 3.

² Id., 87 FR at 219.

Scope of the Order

The products covered by the order are circular welded carbon and alloy steel (other than stainless steel) pipe of a kind used for oil or gas pipelines (welded line pipe), not more than 24 inches in nominal outside diameter, regardless of wall thickness, length, surface finish, end finish, or stenciling. Welded line pipe is normally produced to the American Petroleum Institute (API) specification 5L, but can be produced to comparable foreign specifications, to proprietary grades, or can be non-graded material. All pipe meeting the physical description set forth above, including multiple-stenciled pipe with an API or comparable foreign specification line pipe stencil is covered by the scope of this order.

The welded line pipe that is subject to the order is currently classifiable in the Harmonized Tariff Schedule of the United States (HTSUS) under subheadings 7305.11.1030, 7305.11.5000, 7305.12.1030, 7305.12.5000, 7305.19.1030, 7305.19.5000, 7306.19.1010, 7306.19.1050, 7306.19.5110, and 7306.19.5150. The subject merchandise may also enter in HTSUS 7305.11.1060 and 7305.12.1060. While the HTSUS subheadings are provided for convenience and customs purposes, the written description of the scope of the order is dispositive.

Rescission of Administrative Review

In the Preliminary Results, Commerce determined that the sole respondent in this administrative review, Cimtas, had no reviewable shipments, sales, or entries of subject merchandise during the POR.³ Also, we stated that Cimtas' 2018-2019 POR entries will remain suspended until the completion of this review and will be liquidated based on the final results for Cimtas in this review. We received no comments from interested parties with respect to this record information or the preliminary rescission of the administrative review for Cimtas. Therefore, we are rescinding this administrative review with respect to Cimtas.⁴

³ See Preliminary Results PDM at 3-5.

⁴ See 19 CFR 351.213(d)(3).

Assessment

Commerce will instruct U.S. Customs and Border Protection (CBP) to assess antidumping duties on and liquidate any of Cimtas' suspended entries from this POR and the 2018-2019 POR at the cash deposit rate in effect at the time of entry.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

As Commerce has proceeded to a final rescission of this administrative review, no cash deposit rates will change. Accordingly, the current cash deposit requirements shall remain in effect until further notice.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice serves as the only reminder to parties subject to administrative protective order (APO) of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Interested Parties

This notice is issued and published in accordance with sections 751(a)(1) and 777(i) of the Tariff Act of 1930, as amended, and 19 CFR 351.213(d)(4).

Dated: May 4, 2022.
Lisa W. Wang,
Assistant Secretary for Enforcement and Compliance.

[FR Doc. 2022-09984 Filed 5-9-22; 8:45 am]

BILLING CODE 3510-DS-P